FEDERAL ELECTION COMMISSION

Sunshine Act Notices; Cancellation of Previously Announced Meeting: Thursday, January 11, 2007, Meeting Open to the Public. Special Executive Session: Thursday, January 11, 2007. This Meeting Was Closed to the Public Pursuant to 11 CFR 2.4(b)(1) and 2.4(b)(2)

DATE AND TIME: Tuesday, January 23, 2007, at 10 a.m.

PLACE: 999 E Street, NW., Washington, DC

STATUS: This meeting will be closed to the public.

ITEMS TO BE DISCUSSED:

Compliance matters pursuant to 2 U.S.C. 437g.

Audits conducted pursuant to 2 U.S.C. 437g, 438(b), and Title 26, U.S.C.

Matters concerning participation in civil actions or proceedings or arbitration.

Internal personnel rules and procedures or matters affecting a particular employee.

Person to Contact for Information: Mr. Robert Biersack, Press Officer, Telephone: (202) 694-1220.

Mary W. Dove,
Secretary of the Commission.

[FR Doc. 07-216 Filed 1-16-07; 3:03 pm]

BILLING CODE 6715-01-M